DEPARTMENT OF COMMERCE

National Oceanic and Atmospheric Administration

[I.D. 032405B]

Fisheries of the Northeastern United States; Final Environmental Impact Statement for Minimizing Impacts of the Atlantic Herring Fishery on Essential Fish Habitat

AGENCY: National Marine Fisheries Service (NMFS), National Oceanic and Atmospheric Administration (NOAA), Commerce.

ACTION: Notice of availability.

SUMMARY: In compliance with the National Environmental Policy Act of 1969, NMFS announces the availability of a Record of Decision (ROD) regarding a final environmental impact statement(FEIS) that was prepared to determine whether future action is needed to minimize to the extent practicable possible adverse effects of fishing, that are more than minimal and not temporary in nature, on Atlantic herring essential fish habitat (EFH) and of Atlantic herring fishing on the EFH of other managed species. The FEIS was prepared to address EFH requirements of the Magnuson-Stevens Fishery Conservation and Management Act (MSA). This ROD documents the decision by NMFS that No Action is required at this time to minimize potential adverse effects of fishing on EFH.

ADDRESSES: Copies of the ROD and the FEIS can be obtained from Peter D. Colosi, Assistant Regional Administrator for Habitat Conservation, NMFS, Northeast Regional Office, 1 Blackburn Drive, Gloucester, MA 01930; telephone 978-281-9102; fax 978-281-9301. Also available on the internet at http://www.nero.noaa.gov/nero/regs/com.html.

FOR FURTHER INFORMATION CONTACT: Peter D. Colosi, 978-281-9102; or Louis A. Chiarella, 978-281-9277; email Lou.Chiarella@noaa.gov.

SUPPLEMENTARY INFORMATION: NMFS Northeast Region was the lead agency responsible for preparing the FEIS for Minimizing Impacts of the Atlantic Herring Fishery on Essential Fish Habitat. The FEIS evaluates the potential adverse effects of fishing on Atlantic herring EFH, including the effects of the Atlantic herring fishery on the EFH of other species, and evaluates management measures to minimize to the extent practicable any adverse effects by the Atlantic herring fishery on EFH that is more than minimal and not temporary in nature. The notice of availability of the FEIS was published on January 28, 2005 (70 FR 4119).

The ROD documents NMFS' decision to adopt the No Action Alternative. The ROD identifies all alternatives considered in reaching the decision, specifies the alternatives, which were considered to be environmentally preferable, and identifies and discusses relevant factors, which were balanced by NMFS in making its decision. A copy of the ROD will be mailed to individuals, agencies, or companies that commented on the draft and final EISs. In addition, copies of the ROD and FEIS are available from NMFS (see ADDRESSES).

Dated: March 25, 2005.
William T. Hogarth,
Assistant Administrator for Fisheries, National Marine Fisheries Service.

[FR Doc. 05-6386 Filed 3-30-05; 8:45 am]

BILLING CODE 3510-22-S